DEPARTMENT OF TRANSPORTATION

Coast Guard

33 CFR Part 160

[USCG-2001-10689]

RIN 2115-AG24

Temporary Requirements for Notification of Arrival in U.S. Ports

AGENCY: Coast Guard, DOT.

ACTION: Temporary final rule; change of effective date.

SUMMARY: The Coast Guard is extending the effective period for the temporary final rule on “Temporary Requirements for Notification of Arrival in U.S. Ports” to September 30, 2002, to ensure public safety and security and to ensure the uninterrupted flow of commerce.

DATES: Section 160.201(e) and (f), added at 66 FR 50565, October 4, 2001, effective October 4, 2001, until June 15, 2002; § 160.201(g), added at 66 FR 50565, October 4, 2001, effective October 4, 2001, until June 15, 2002, and amended by 66 FR 57877, November 19, 2001; the definitions for “certain dangerous cargo”, “crewmember”, “nationality”, and “persons in addition to crewmembers” in § 160.203; § 160.T204, added at 66 FR 50565, October 4, 2001, effective October 4, 2001, until June 15, 2002; § 160.T208, added at 66 FR 50565, October 4, 2001, effective October 4, 2001, until June 15, 2002, and amended by 66 FR 57877, November 19, 2001, and 67 FR 2571, January 18, 2002; and §§ 160.T212 and 160.T214, added at 66 FR 50565, October 4, 2001, effective October 4, 2001, until June 15, 2002, and amended by 66 FR 57877, November 19, 2001, are all extended in effect until September 30, 2002. Section 160.201(c) and (d); the definition of “certain dangerous cargo” in § 160.203; and §§ 160.207, 160.211, and 160.213, which were suspended at 66 FR 50565, October 4, 2001, from October 4, 2001, until June 15, 2002, will continue to be suspended through September 30, 2002.

FOR FURTHER INFORMATION CONTACT: If you have questions on this rule, call LTJG Marcus A. Lines, U.S. Coast Guard (G-MMP), at 202-267-6854. If you have questions on viewing or submitting material to the docket, call Dorothy Beard, Chief, Dockets, Department of Transportation, at 202-366-5149.

SUPPLEMENTARY INFORMATION:

Background and Purpose

The terrorist attacks of September 2001 killed thousands of people and heightened the need for security checks on all modes of travel, particularly those modes by which foreign nationals can enter the country. In the maritime context, extra time is needed for security checks. Vessels bound for U.S. ports and places could experience delays in entering port if required arrival information is not received early enough.

On October 4, 2001, we published a temporary final rule entitled “Temporary Requirements for Notification of Arrival in U.S. Ports” in the Federal Register (66 FR 50565). Subsequently, we published two corrections in the Federal Register [November 19, 2001 (66 FR 57877)] and [January 18, 2002 (67 FR 2571)]. The temporary rule increased the time for submission of a notice of arrival (NOA) from 24 to 96 hours prior to arriving at port; required centralized submissions; temporarily withdrew exemptions from reporting requirements for some groups of vessels; and required passenger, crew, and cargo information.

We are extending the effective period of the temporary final rule so that we can complete a rulemaking [(USCG-2001-11865), RIN 2115-AG35, “Notification of Arrival in U.S. Ports”] to permanently change the notice of arrival requirements. Extending the effective date until September 30, 2002, should provide us enough time to complete the rulemaking.

We did not publish a notice of proposed rulemaking (NPRM) for this rule and it is being made effective less than thirty days after publication in the Federal Register. When we promulgated the October 4 rule, we intended to either allow it to expire on June 15, 2002, or to cancel it if we made permanent changes before that date. We are now preparing an NPRM to make permanent changes to the notice of arrival requirements. That rulemaking will follow normal notice and comment procedures, and a final rule should be published before September 30, 2002. Continuing the temporary rule in effect while the permanent rulemaking is in progress will help to ensure the security of our ports and the uninterrupted flow of maritime commerce during that period. Therefore, the Coast Guard finds good cause under 5 U.S.C. 553 (b)(B) and (d)(3) for why a notice of proposed rulemaking and opportunity for comment is not required and why this rule will be made effective fewer than 30 days after publication in the Federal Register.

Regulatory Evaluation

This temporary rule is not a “significant regulatory action” under section 3(f) of Executive Order 12866, Regulatory Planning and Review, and does not require an assessment of potential costs and benefits under section 6(a)(3) of that Order. It has not been reviewed by the Office of Management and Budget under that Order. It is not “significant” under the regulatory policies and procedures of the Department of Transportation (DOT) (44 FR 11040, February 26, 1979).

We expect the economic impact of this rule to be so minimal that a full Regulatory Assessment under paragraph 10(e) of the regulatory policies and procedures of DOT is unnecessary; however, a Regulatory Assessment has been prepared and may be viewed in the docket for this project. As discussed in the temporary final rule preamble, the Coast Guard has temporarily changed the notice of arrival (NOA) regulations. When assessing the impact of the temporary requirements, we estimated that providing the Coast Guard with the additional information about passengers, crew, and cargo will impose minimal burden on vessels already complying with the notification requirements of 33 CFR part 160, subpart C. We estimated that, by suspending some exemptions, the temporary rule imposed a heavier burden on vessels that were exempt from reporting but that are now required to report in accordance with § 160.T208. As explained below, the total cost of this temporary rule should not exceed $754,648:

Cost and Burden. Coast Guard data on Notification of Arrival information for 1998 and 1999 were used to estimate the maximum populations affected by the temporary rule. Table 1 categorizes the affected vessel population into four sub-populations. They are:

• “Non-AMVER/Non-Great Lakes Vessels”—vessels already required to comply with NOA regulations;

• “AMVER”—vessels complying with the Automated Mutual Assistance Vessel Rescue system and that were exempt from NOA requirements prior to the temporary rule;

• “Great Lakes Vessels”—vessels greater than 300 gross tons, on Great Lakes routes, that were exempt from NOA requirements prior to the temporary rule; and

• “Vessels on Scheduled Routes”—vessels operating upon a route that is described in a schedule that is submitted to the Captain of the Port for each port or place of destination listed in the schedule.

The table also sets out the number of vessels and their total number of U.S. port calls (arrivals) for each vessel sub-population.

Table 1.—Number of Vessels and U.S. Port Calls for 1998 and 1999*
| 1998 | 1999 | Annual average | Monthly average
Non-AMVER/Non-Great Lakes:
Vessels | 9,795 | 9,538 | 9,667 | NA
U.S. Port Calls | 63,090 | 63,482 | 63,286 | 5,274
AMVER:
Vessels | 625 | 609 | 617 | NA
U.S. Port Calls | 4,027 | 4,052 | 4,040 | 337
Great Lakes:
Vessels | 83 | 82 | 83 | NA
U.S. Port Calls | 840 | 786 | 813 | 68
Totals:
Vessels | 10,503 | 10,229 | 10,367 | NA
U.S. Port Calls | 67,957 | 68,320 | 68,139 | 5,679
* These estimates include vessels on scheduled routes that will experience about the same costs as the other vessels in this population.

Vessels less than 300 gross tons making ports of call in the Seventh Coast Guard District have to file NOA reports with the COTP. The temporary rule maintained this requirement, and the estimate of the vessels and port calls presented in Table 1 accounted for this special group.

Before the temporary final rule, vessels had to file multiple NOA reports if they were visiting multiple U.S. ports on the same voyage. Under the temporary rule, vessels making calls to multiple U.S. ports do not have to file multiple NOA reports; rather, the temporary rule allows a single report listing all destinations in the United States along with estimated arrival dates for each port. The Coast Guard did not collect or maintain information on the number of vessels that made multiple U.S. port calls under separate NOA reports to estimate the number of consolidated reports under the temporary rule. The totals above, therefore, represent a conservative estimate, a “worst-case scenario,” of the numbers of vessels and NOA reports that will be affected by the temporary rule.

Finally, vessels that make scheduled trips outside of their COTP zones will no longer be exempt from reporting requirements. We do not know how many of these vessels and port calls exist, though we know they are included in the population of non-AMVER/non-Great Lakes vessels. For the purposes of analysis, these vessels and port calls are included in the non-AMVER/non-Great Lakes population.

Cost of the Temporary Rule

Minimal burden will be imposed on vessels whose applicability to the NOA reporting requirements was upheld by the temporary rule because the cargo, crew, and passenger information they provide to the Coast Guard is already collected on a form submitted to the Immigration and Naturalization Services (INS) (INS form I-418). We assumed 10 minutes (0.167 hours) will be spent retrieving and transmitting the cargo, crew, and passenger information. We assumed that there will be a $2 transmittal fee (fax, email, telephone, etc.) to provide this information to the Coast Guard. We assumed that clerical labor will complete these tasks at a cost of $31.00 per hour (loaded labor rate, 2001). Based on 1998 and 1999 data, we estimated 63,286 port calls will be made over the time period of this rulemaking (12 months—until September 30, 2002). The summary of unit costs and total rulemaking costs for non-AMVER/non-Great Lakes vessels is presented in Table 2.

Table 2.—Total Rulemaking Costs for Non-AMVER/Non-Great Lakes Vessels
[October 2001-September 2002]
Port calls during temporary rule | Labor hours per port call | Labor hours during temporary rule | Cost per labor hour | Cost per information transmittal | Total rulemaking cost for these vessels
63,286 | 0.167 | 10,548 | $31.00 | $2.00 | $453,564
Detail may not calculate to total due to independent rounding.
* These estimates include vessels on scheduled routes that will experience about the same costs as the other vessels in this population.

Vessels that were previously exempt from NOA requirements must now, as a result of the temporary rule, provide the Coast Guard with NOA reports in addition to providing the cargo, crew, and passenger information. These vessels (AMVER and vessels that transit only the Great Lakes) will incur the new cost of submitting an NOA report, since they did not have to submit this report in the past. Based on the OMB-approved Collection of Information for NOA (OMB-2115-0557), we estimated that it will take 10 minutes (0.167 hours) to complete the report, plus an additional 5 minutes (0.083 hours) for the general description of the cargo. We assumed that clerical labor will complete the report at a cost of $31.00 per hour. Additionally, these vessels will need to develop and submit the cargo, crew, and passenger information. Based on information from the INS (OMB-1115-0083), it will require 60 minutes (1.000 hour) to complete both lists, for a total of 75 minutes (1.250 hours) for the entire submission (NOA report, cargo description, crew and passenger information). There will be a $2 transmittal fee to provide the information to the Coast Guard. Based on 1998 and 1999 data, we estimated that 4,853 port calls will be made over the time period of this rulemaking. The summary of unit costs and total rulemaking costs for AMVER/Great Lakes vessels is presented in Table 3.

Table 3.—Total Rulemaking Costs for AMVER/Great Lakes Vessels
[October 2001-September 2002]
Port calls during temporary rule | Labor hours per port call | Labor hours during temporary rule | Cost per labor hour | Cost per information transmittal | Total rulemaking cost for these vessels
4,853 | 1.250 | 6,065 | $31.00 | $2.00 | $197,741
Detail may not calculate to total due to independent rounding.

Finally, all vessels affected will need to communicate with the National Vessel Movement Center (NVMC) upon departure from a U.S. port when their next port of call is also a U.S. port. Vessels are to phone or fax the date of departure to the NVMC along with the name of the port just departed. The NVMC will transmit this information to the COTP in the next port of call. We assumed that reporting this will require 1 minute (0.017 hours) per departure and that clerical labor ($31.00 per hour) will make the call or send the fax. We assumed the transmittal fee will be $1.00 per call/fax. There will be an estimated 68,139 departures over the 12-month period of the temporary rule (until September 30, 2002). The cost and burden for notifying NVMC of the date of departure and last port of call is presented in Table 4.

Table 4.—Total Rulemaking Costs for Providing NVMC With Date of Departure and Last Port of Call Information
[October 2001-September 2002]
Port departures during temporary rule | Labor hours per port call | Labor hours during temporary rule | Cost per labor hour | Cost per information transmittal | Total rulemaking cost for these vessels
68,139 | 0.017 | 1,136 | $31.00 | $1.00 | $103,343
Detail may not calculate to total due to independent rounding.

The total cost and burden of the rule is presented in Table 5.

Table 5.—Total Rulemaking Cost for All Affected Vessels
[October 2001-September 2002]
| Arrivals/ departures | Cost per arrival/ departure | Burden per arrival/ departure (hours) | Total rulemaking cost | Total rulemaking burden
Arr. Non-AMVER/Non-Great Lakes | 63,286 | $7.17 | 0.167 | $453,564 | 10,548
Arr. AMVER/Great Lakes | 4,853 | 40.75 | 1.250 | 197,741 | 6,065
Dep. all vessels | 68,139 | 1.52 | 0.017 | 103,343 | 1,136
Totals | 136,278 |  |  | 754,648 | 17,749
Detail may not calculate to total due to independent rounding.
* These estimates include vessels on scheduled routes that will experience about the same costs as the other vessels in this population.

Need for the Temporary Rule

This rule will ensure the timely receipt of advance information about vessels and people entering U.S. ports and will help minimize disruption to commerce. The additional information required by this temporary rule will increase security and provide protection for the nation's ports and waterways. There will be some savings from the consolidated NOA submission for two or more consecutive arrivals at U.S. ports.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule was not preceded by a general notice of proposed rulemaking and, therefore, is exempt from the requirements of the Regulatory Flexibility Act. Although this rule is exempt, we have reviewed it for potential economic impact on small entities.

The Coast Guard certifies under 5 U.S.C. 605(b) that this rule will not have a significant economic impact on a substantial number of small entities. If you think that your business, organization, or governmental jurisdiction qualifies as a small entity and that this rule will have a significant economic impact on it, please submit a comment to the Docket Management Facility at the address under ADDRESSES. In your comment, explain why you think it qualifies and how and to what degree this rule would economically affect it.

Assistance for Small Entities

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule modifies an existing collection of information under the Paperwork Reduction Act of 1995 (44 U.S.C. 3501-3520). As defined in 5 CFR 1320.3(c), “collection of information” comprises reporting, recordkeeping, monitoring, posting, labeling, and other similar actions. The title and description of the information collection, a description of those who must collect the information, and an estimate of the total annual burden follow. The estimate covers the time for reviewing instructions, searching existing sources of data, gathering and maintaining the data needed, and completing and reviewing the collection.

Title: Advance Notice of Vessel Arrival and Departure.

OMB Control Number: 2115-0557.

Summary of the Collection of Information: The Coast Guard requires pre-arrival messages from any vessel entering a port or place in the United States. This rule will amend 33 CFR part 160 to temporarily require:

• Earlier receipt of the notice of arrival—96 hours instead of 24 hours—from vessels currently required to provide advance notification of arrival;

• Submission of NOA reports to a central clearinghouse, the National Vessel Movement Center;

• Suspension of the current exemption from notice of arrival reporting requirements for vessels operating in compliance with the Automated Mutual Assistance Vessel Rescue System, some vessels operating on the Great Lakes, and vessels on scheduled routes; and

• Additional information about crewmembers, passengers, cargoes on board the vessel to be provided as items in the notice of arrival report.

The temporary changes will be in effect until September 30, 2002.

Need for Information: To ensure port safety and security and to ensure the uninterrupted flow of commerce, the Coast Guard must temporarily change regulations relating to the Notifications of Arrival requirements.

Proposed Use of Information: This information is required to control vessel traffic, develop contingency plans, and enforce regulations.

Description of the Respondents: The respondents are owners, agents, masters, operators, or persons in charge of vessels bound for or departing from U.S. ports.

Number of Respondents: The existing OMB-approved collection number of respondents is 9,834. This temporary rule will increase the number of respondents by 533 to a total of 10,367.

Frequency of Response: The existing OMB-approved collection annual number of responses is 126,722. This temporary rule will increase the number of responses by 9,556 to a total of 136,278.

Burden of Response: The existing OMB-approved collection burden of response is 10 minutes (0.167 hours). This temporary rule will increase the burden of response by 5 minutes (0.083 hours) to a total of 15 minutes (0.250 hours).

Estimate of Total Annual Burden: The existing OMB-approved collection total annual burden is 21,288 hours. This temporary rule will increase the total annual burden by 17,749 hours to a total of 39,037 hours.

As required by the Paperwork Reduction Act of 1995 (44 U.S.C. 3507(d)), we submitted a copy of this rule to the Office of Management and Budget (OMB) for its review of the collection of information. Due to the circumstances surrounding this temporary rule, we asked for “emergency processing” of our request. We received OMB approval for the collection of information on September 26, 2001. It is valid until September 30, 2002.

We ask for public comment on the collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB. We received OMB approval for the collection of information on September 26, 2001. It is valid until September 30, 2002.

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, the effects of this rule are discussed elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this rule might impact tribal governments, even if that impact may not constitute a “tribal implication” under the Order.

Energy Effects

We have analyzed this rule under Executive Order 13211, Actions Concerning Regulations that Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34)(a), of Commandant Instruction M16475.lD, this rule is categorically excluded from further environmental documentation. This temporary final rule changes the requirements established in the notification of arrival regulations. They are procedural in nature and therefore are categorically excluded. A “Categorical Exclusion Determination” is available in the docket where indicated under ADDRESSES.

List of Subjects in 33 CFR Part 160

Administrative practice and procedure; Harbors; Hazardous materials transportation; Marine safety; Navigation (water); Reporting and recordkeeping requirements; Vessels; Waterways.

For the reasons discussed in the preamble, the Coast Guard amends 33 CFR part 160 as follows:

PART 160—PORTS AND WATERWAYS SAFETY—GENERAL

Subpart C—Notifications of Arrival, Departures, Hazardous Conditions, and Certain Dangerous Cargoes

1. The authority citation for part 160 is amended to read as follows:

Authority: 33 U.S.C. 1223, 1226, 1231; 49 CFR 1.46.

§ 160.201 [Amended]

2. In § 160.201, paragraphs (c) and (d), which were suspended at 66 FR 50565, October 4, 2001, from October 4, 2001, until June 15, 2002, will continue to be suspended through September 30, 2002 and paragraphs (e) and (f), added at 66 FR 50565, October 4, 2001, effective October 4, 2001, until June 15, 2002, and paragraph (g), added at 66 FR 50565, October 4, 2001, effective October 4, 2001, until June 15, 2002, and amended by 66 FR 57877, November 19, 2001, are extended in effect until September 30, 2002.

§ 160.203 [Amended]

3. In § 160.203, the definition of “certain dangerous cargo,” which was suspended at 66 FR 50565, October 4, 2001, from October 4, 2001, until June 15, 2002, will continue to be suspended through September 30, 2002; and the definitions for “certain dangerous cargo”, “crewmember”, “nationality”, and “persons in addition to crewmembers” which were added at 66 FR 50565, October 4, 2001, effective October 4, 2001, until June 15, 2002, are extended in effect until September 30, 2002.

§ 160.T204 [Amended]

4. Section 160.T204, which was added at 66 FR 50565, October 4, 2001, effective October 4, 2001, until June 15, 2002, is extended in effect until September 30, 2002.

§ 160.207 [Amended]

5. Section 160.207, which was suspended at 66 FR 50565, October 4, 2001, from October 4, 2001, until June 15, 2002, will continue to be suspended through September 30, 2002.

§ 160.T208 [Amended]

6. Section 160.T208, which was added at 66 FR 50565, October 4, 2001, effective October 4, 2001, until June 15, 2002, and amended by 66 FR 57877, November 19, 2001, and by 67 FR 2571, January 18, 2002, is extended in effect until September 30, 2002.

§ 160.211 [Amended]

7. Section 160.211, which was suspended at 66 FR 50565, October 4, 2001, from October 4, 2001, until June 15, 2002, will continue to be suspended through September 30, 2002.

§ 160.T212 [Amended]

8. Section 160.T212, which was added at 66 FR 50565, October 4, 2001, effective October 4, 2001, until June 15, 2002, and amended by 66 FR 57877, November 19, 2001, is extended in effect until September 30, 2002.

§ 160.213 [Amended]

9. Section 160.213, which was suspended at 66 FR 50565, October 4, 2001, from October 4, 2001, until June 15, 2002, will continue to be suspended through September 30, 2002.

§ 160.T214 [Amended]

10. Section 160.T214, which was added at 66 FR 50565, October 4, 2001, effective October 4, 2001, until June 15, 2002, and amended by 66 FR 57877, November 19, 2001, is extended in effect until September 30, 2002.

Dated: May 23, 2002.
J.P. High,
Acting Assistant Commandant for Marine Safety, Security and Environmental Protection.

[FR Doc. 02-13548 Filed 5-29-02; 8:45 am]

BILLING CODE 4910-15-P